OFFICE OF THE UNITED STATES TRADE REPRESENTATIVE

Office of Agricultural Affairs; Fiscal Year 2016 Allocation of Additional Tariff-Rate Quota Volume for Raw Cane Sugar

AGENCY: Office of the United States Trade Representative.

ACTION: Notice.

SUMMARY: The Office of the United States Trade Representative (USTR) is providing notice of country-by-country allocations of additional Fiscal Year (FY) 2016 in-quota quantity of the tariff-rate quota (TRQ) for imported raw cane sugar as announced by Secretary of Agriculture on May 18, 2016.

DATES: Effective Date: May 27, 2016.

FOR FURTHER INFORMATION CONTACT: Ronald Baumgarten, Office of Agricultural Affairs, telephone: 202-395-9583 or facsimile: 202-395-4579.

SUPPLEMENTARY INFORMATION: Pursuant to Additional U.S. Note 5 to Chapter 17 of the Harmonized Tariff Schedule of the United States (HTS), the United States maintains TRQs for imports of raw cane and refined sugar. Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On May 18, 2016, the Secretary of Agriculture announced an additional in-quota quantity of the TRQ for raw cane sugar for the remainder of FY 2016 (ending September 30, 2016) in the amount of 127,006 metric tons, raw value (MTRV). This quantity is in addition to the minimum amount to which the United States has already committed to pursuant to the World Trade Organization (WTO) Uruguay Round Agreements (1,117,195 MTRV, as announced by Federal Register notice on June 15, 2015, 80 FR 34129). USTR is allocating this total quantity of 127,006 MTRV to the following countries in the amounts specified below:

Country | FY 2016 raw cane sugar increase (MTRV)
Argentina | 6,159
Australia | 11,888
Belize | 1,576
Brazil | 20,768
Colombia | 3,437
Costa Rica | 2,148
Dominican Republic | 15,000
Ecuador | 1,576
El Salvador | 3,724
Fiji | 1,289
Guatemala | 6,875
Guyana | 1,719
Honduras | 1,432
India | 1,146
Jamaica | 1,576
Malawi | 1,432
Mauritius | 1,719
Mozambique | 1,862
Nicaragua | 3,008
Panama | 4,154
Peru | 5,872
Philippines | 19,336
South Africa | 3,294
Swaziland | 2,292
Thailand | 2,005
Zimbabwe | 1,719

These allocations are based on the countries' historical shipments to the United States. The allocations of the raw cane sugar TRQ to countries that are net importers of sugar are conditioned on receipt of the appropriate verifications of origin, and certificates for quota eligibility must accompany imports from any country for which an allocation has been provided.

Conversion factor: 1 metric ton = 1.10231125 short tons.

Michael Froman,
United States Trade Representative.

[FR Doc. 2016-12496 Filed 5-26-16; 8:45 am]

BILLING CODE 3290-F6-P